DEPARTMENT OF TRANSPORTATION

Federal Aviation Administration

14 CFR Part 39

[Docket No. 2001-NM-225-AD; Amendment 39-12351; AD 2001-14-51]

RIN 2120-AA64

Airworthiness Directives; General Aviation Aircraft Equipped With Certain UPS Aviation Technologies, Inc., Model Apollo SL30 Very-High-Frequency Navigation/Communication (VHF NAV/COMM) Radios

AGENCY: Federal Aviation Administration, DOT.

ACTION: Final rule; request for comments.

SUMMARY: This document publishes in the Federal Register an amendment adopting airworthiness directive (AD) AD 2001-14-51 that was made available previously to all known U.S. owners and operators of General Aviation aircraft equipped with certain UPS Aviation Technologies, Inc., Model Apollo SL30 VHF NAV/COMM radios. This AD requires determination of the version of software being used by the UPS Aviation Technologies, Inc., Model Apollo SL30 VHF NAV/COMM radio, and installation of a placard to prohibit use of the radio's very-high-frequency omnirange (VOR) function for navigation, if necessary. This action is prompted by a report that, during installation of a subject radio, an installer noted that the radio was providing incorrect radial bearing information. The actions specified by this AD are intended to prevent use of incorrect bearing information by the pilot, which could result in inaccurate navigation information.

DATES: Effective July 30, 2001, to all persons except those persons to whom it was made immediately effective by emergency AD 2001-14-51, issued June 29, 2001, which contained the requirements of this amendment.

Comments for inclusion in the Rules Docket must be received on or before September 24, 2001.

ADDRESSES: Submit comments in triplicate to the Federal Aviation Administration (FAA), Transport Airplane Directorate, ANM-114, Attention: Rules Docket No. 2001-NM-225-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via fax or the Internet must contain “Docket No. 2001-NM-225-AD” in the subject line and need not be submitted in triplicate. Comments sent via the Internet as attached electronic files must be formatted in Microsoft Word 97 for Windows or ASCII text.

Information relevant to this AD may be examined at the FAA, Transport Airplane Directorate, Rules Docket, 1601 Lind Avenue, SW., Renton, Washington.

FOR FURTHER INFORMATION CONTACT: Susan Letcher, Aerospace Engineer, Systems and Equipment Branch, ANM-130S, FAA, Seattle Aircraft Certification Office, 1601 Lind Avenue, SW., Renton, Washington 98055-4056; telephone (425) 227-2670; fax (425) 227-1181.

SUPPLEMENTARY INFORMATION: On June 29, 2001, the FAA issued emergency AD 2001-14-51, which is applicable to General Aviation aircraft equipped with certain UPS Aviation Technologies, Inc., Model Apollo SL30 very-high-frequency navigation/communication (VHF NAV/COMM) radios.

That action was prompted by a report from the equipment manufacturer indicating that, during installation of a certain UPS Aviation Technologies, Inc., Model Apollo SL30 VHF NAV/COMM radio on a General Aviation aircraft, an installer noted that the radio was providing incorrect radial bearing information. Subsequent testing by the equipment manufacturer revealed that the bearing information was off by 14 degrees.

This incorrect bearing information has been attributed to an error in Digital Signal Processor (DSP) Software Version Number 1.00, as installed on Apollo SL30 VHF NAV/COMM radios having part number 430-6040-300 or 430-6040-301. If the radio receives a signal from a very-high-frequency omnirange (VOR) ground station that deviates from the standard 30-Hertz signal, the error in the software causes the radio to incorrectly decode the bearing of the station. Because the occurrence of the error is dependent on the signal coming from a given station and not on the radio itself, the pilot may not necessarily know if the bearing information is incorrect. This condition, if not corrected, could lead the pilot to use incorrect bearing information, which could result in inaccurate navigation information.

The FAA has granted field approvals for installation of these radios on various makes and models of General Aviation aircraft, so any General Aviation aircraft with a UPS Aviation Technologies, Inc., Model Apollo SL30 VHF NAV/COMM radio with the part numbers listed above may be subject to the unsafe condition addressed by AD 2001-14-51.

Explanation of Relevant Service Information

The FAA has reviewed and approved UPS Aviation Technologies, Inc., Service Bulletin SB2001-003, dated June 29, 2001. That service bulletin describes procedures for determining what version of software the Apollo SL30 VHF NAV/COMM radio is using. If the radio is using DSP Software Version Number 1.00, the service bulletin says to install a placard to inform the pilot that use of the radio's VOR function for navigation is prohibited. The placard must be installed so that it is within view of the pilot during operation of the aircraft.

Explanation of Requirements of the Rule

Since the unsafe condition described is likely to exist or develop on other airplanes of the same type design, the FAA issued emergency AD 2001-14-51 to prevent use of incorrect bearing information by the pilot, which could result in inaccurate navigation information. The AD requires determination of the version of software being used by the UPS Aviation Technologies, Inc., Model Apollo SL30 VHF NAV/COMM radio, and installation of a placard to prohibit use of the radio's VOR function for navigation, if necessary.

Since it was found that immediate corrective action was required, notice and opportunity for prior public comment thereon were impracticable and contrary to the public interest, and good cause existed to make the AD effective immediately by making it available on June 29, 2001, to all known U.S. owners and operators of General Aviation aircraft equipped with certain UPS Aviation Technologies, Inc., Model Apollo SL30 VHF NAV/COMM radios. These conditions still exist, and the AD is hereby published in the Federal Register as an amendment to § 39.13 of the Federal Aviation Regulations (14 CFR 39.13) to make it effective to all persons.

Interim Action

This is considered to be interim action. The equipment manufacturer has advised that it currently is developing a software update that will positively address the unsafe condition addressed by this AD. Once this software update is developed, approved, and available, the FAA may consider additional rulemaking.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2001-NM-225-AD.” The postcard will be date-stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-14-51 UPS Aviation Technologies, Inc.: Amendment 39-12351. Docket 2001-NM-225-AD.

Applicability: All General Aviation aircraft equipped with a UPS Aviation Technologies, Inc., Model Apollo SL30 very-high-frequency navigation/communication (VHF NAV/COMM) radio having part number 430-6040-300 or 430-6040-301; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent use of incorrect bearing information by the pilot, which could result in inaccurate navigation information, accomplish the following:

Determination of Software Version

(a) Before further flight after receipt of this AD, determine what version of Digital Signal Processor (DSP) Software the UPS Aviation Technologies, Inc., Model Apollo SL30 VHF NAV/COMM radio is using, according to the following procedure:

Placing Unit In System Mode

Operation Summary (Refer to page 4 of operation manual)

Power On

Turn the SL30 on. Either turn the Power/Volume knob clockwise to turn the power on or, if installed, turn on the master switch that powers the radios. The SL30 will go through a short initialization routine and then briefly display the last VOR check date.

System Info (Refer to page 26 of operation manual)

System Info provides information about the Software versions and the Display Intensity.

1. Press SYS and turn the LARGE knob if necessary to the System Info page. Press ENT.

2. In the System Info function turn the LARGE knob to Nav Software Version.

3. Turn the SMALL knob to left (counterclockwise) to view DSP Software Version.”

Note 2: The procedure specified in paragraph (a) of this AD is identical to the “PROCEDURE” section of UPS Aviation Technologies, Inc., Service Bulletin SB2001-003, dated June 29, 2001.

Installation of Placard

(b) If the radio is using DSP Software Version Number 1.00, before further flight, do the actions in paragraphs (b)(1) and (b)(2) of this AD.

(1) Attach on or place near the SL30 within view of the pilot a placard that reads as follows:

“USE OF SL30 VOR FUNCTION FOR NAVIGATION PROHIBITED.”

(2) Insert a copy of this AD into the Limitations Section of the FAA-approved Airplane Flight Manual.

Spares

(c) After receipt of this AD, no one may install on any airplane a UPS Aviation Technologies, Inc., Model Apollo SL30 VHF NAV/COMM radio, having part number 430-6040-300 or 430-6040-301; unless the requirements of this AD are accomplished.

Alternative Methods of Compliance

(d) An alternative method of compliance or adjustment of the compliance time that provides an acceptable level of safety may be used if approved by the Manager, Seattle Aircraft Certification Office (ACO), FAA. Operators shall submit their requests through an appropriate FAA Principal Avionics Inspector, who may add comments and then send it to the Manager, Seattle ACO.

Note 3: Information concerning the existence of approved alternative methods of compliance with this AD, if any, may be obtained from the Seattle ACO.

Special Flight Permits

(e) Special flight permits may be issued in accordance with §§ 21.197 and 21.199 of the Federal Aviation Regulations (14 CFR 21.197 and 21.199) to operate the airplane to a location where the requirements of this AD can be accomplished.

Effective Date

(f) This amendment becomes effective on July 30, 2001, to all persons except those persons to whom it was made immediately effective by emergency AD 2001-14-51, issued on June 29, 2001, which contained the requirements of this amendment.

Issued in Renton, Washington, on July 19, 2001.
Vi L. Lipski,
Manager, Transport Airplane Directorate, Aircraft Certification Service.

[FR Doc. 01-18472 Filed 7-24-01; 8:45 am]

BILLING CODE 4910-13-P